DEPARTMENT OF HOMELAND SECURITY

Coast Guard

33 CFR Parts 100 and 165

[Docket No. USCG-2011-0286]

RIN 1625-AA00; 1625-AA08

Eighth Coast Guard District Annual Marine Events and Safety Zones

AGENCY: Coast Guard, DHS.

ACTION: Direct final rule; confirmation of effective date; technical amendments.

SUMMARY: On March 1, 2012, the Coast Guard published a direct final rule, amending and updating its special local regulations and safety zones relating to recurring marine parades, regattas, fireworks displays, and other events that take place in the Eighth Coast Guard District area of responsibility. No adverse comment or notice of intent to submit an adverse comment was received. The rule will go into effect as scheduled. The Coast Guard is also correcting two entries in this rule through technical amendment. The first correction changes the event name in one entry and the second reduces the occurrence of an event and resulting safety zone from annually to biannually.

DATES: The May 30, 2012, effective date for the direct final rule published March 1, 2012, at 77 FR 12456, is confirmed. The technical corrections in this document are effective May 30, 2012.

ADDRESSES: Documents mentioned in this preamble are part of docket USCG-2011-0286. To view documents mentioned in this preamble as being available in the docket, go to http://www.regulations.gov, type the docket number (USCG-2011-0286) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Shelley R. Miller, Eighth Coast Guard District Waterways Management Division, (504) 671-2139 or email, Shelley.R.Miller@uscg.mil. If you have questions on viewing the docket, call Renee V. Wright, Program Manager, Docket Operations, telephone 202-366-9826.

SUPPLEMENTARY INFORMATION: On March 1, 2012 we published in the Federal Register this rule as a direct final rule under 33 CFR 1.05-55 expecting no adverse comment (77 FR 12456). The rule updates the special local regulations and safety zones relating to recurring marine parades, regattas, fireworks displays, and other events that take place in the Eighth Coast Guard District area of responsibility. The rule informs the public of regularly scheduled marine parades, regattas, fireworks displays, and other annual events. When these special local regulations and safety zones are enforced, marine traffic is restricted in specified areas. The purpose of the rule is to reduce administrative costs involved in producing a separate rule for each individual recurring event and to provide notice of the known recurring events requiring a special local regulation or safety zone throughout the year. The rule also helps to protect event participants and the public from the hazards associated with the listed events.

We published the rule as a direct final rule under 33 CFR part 1.05-55 because we considered it noncontroversial and expected no adverse comment regarding the rulemaking. We notified the public that the rule would be effective May 30, 2012 unless adverse comment or notice of intent to submit an adverse comment was received on or before April 2, 2012. No adverse comment or notice of intent to submit an adverse comment was received; therefore, this rule is effective May 30, 2012.

Although we received no adverse comments, the Coast Guard was informed of two required corrections. These corrections are made through technical amendment. The first is an event name change and the second is a change in how often a specific event occurs from annually to biannually. During the comment period, the Coast Guard posted supplemental information to the docket, accessible as guided in the ADDRESSES section, explaining the necessary corrections. No comment or notice of intent to comment on these corrections was received. The corrections are as follows:

(1) For entry no. 5 in Table 1 of 100.801, the “Spirit of Morgantown Triathlon” is now named the “Mountaineer Triathlon.” Therefore, the Event/Sponsor column for entry no. 5 in Table 1 of 100.801 requires correction to read “Mountaineer Triathlon/Greater Morgantown Convention and Visitors Bureau” in the final rule. The triathlon event's date, location, and the resulting special local regulation remain the same. The next occurrence for this event is the second Sunday in August, 2012.

(2) For entry no. 151 in Table 1 of 165.801, the air show requiring the safety zone takes place biannually, during odd numbered years only, not every year. Therefore, the “Date” column for entry no. 151 in Table 1 of 165.801, requires correction to read “Biannually occurring during odd numbered years; 2 Days; Mid March to end of April” in the final rule. This date description properly indicates the resulting safety zone's occurrence every other year rather than every year. The time of year, location, and the resulting safety zone requirements remain the same. The next occurrence for this air show and resulting safety zone will be 2 days during mid-March to the end of April, 2013.

Accordingly, 33 CFR parts 100 and 165, as amended March 1, 2012, at 77 FR 12456, and effective May 30, 2012, are corrected through the following technical amendments:

PART 100—REGATTAS AND MARINE PARADES

1. The authority citation for part 100 continues to read as follows:

Authority: 33 U.S.C. 1233.

2. Amend § 100.801 by revising in Table 1 the entry for Table No. 5 to read as follows:

§ 100.801 Annual Marine Events in the Eighth Coast Guard District.

* * * * *

Table 1 of § 100.801—Eighth Coast Guard District Table of Annual Marine Events
Table No. | Sector Ohio Valley | Date | Event/sponsor | Sector Ohio Valley location | Regulated area
| * * * * * * *
5 | 5 | The second Sunday in August | Mountaineer Triathlon/Greater Morgantown Convention and Visitors Bureau | Monongahela River, Morgantown, WV | Monongahela River, mile marker 101.0 to 102.0, Morgantown, WV.

* * * * *

PART 165—REGULATED NAVIGATION AREAS AND LIMITED ACCESS AREAS

3. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

4. Amend § 165.801 by revising in Table 1, the entry for Table No. 151 to read as follows:

§ 165.801 Annual Fireworks Displays and other events in the Eighth Coast Guard District requiring safety zones.

* * * * *

Table 1 of § 165.801—Eighth Coast Guard District Table of Annual Safety Zones
Table No. | Sector Mobile | Date | Sponsor/name | Sector Mobile location | Safety zone
| * * * * * * *
151 | 10 | Biannually occurring during odd numbered years; 2 Days; Mid-March to end of April | Angels Over the Bay/Keesler Air Force Base | Back Bay Biloxi, Biloxi, MS | Back Bay Biloxi, Bounded by the following coordinates: Eastern boundary; Latitude 30°25′47.6″ N, Longitude 088°54′13.6″ W, to Latitude 30°24′43″ N, Longitude 088°54′13.6″ W. Western Boundary; Latitude 30°25′25.6″ N, Longitude 088°56′9″ W, to Latitude 30°24′55″ N, Longitude 088°56′9″ W.

* * * * *

Dated: April 23, 2012.
Roy A. Nash,
Rear Admiral, U.S. Coast Guard, Commander, Eighth Coast Guard District.

[FR Doc. 2012-11809 Filed 5-15-12; 8:45 am]

BILLING CODE 9110-04-P